INTERNATIONAL TRADE COMMISSION

[USITC SE-18-038]

Sunshine Act Meetings

TIME AND DATE: August 31, 2018 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. No. 731-TA-1396 (Final) (Forged Steel Fittings from Taiwan). The Commission is currently scheduled to complete and file its determination and views of the Commission by September 14, 2018.

5. Outstanding action jackets: None.

In accordance with Commission policy, subject matter listed above, not disposed of at the scheduled meeting, may be carried over to the agenda of the following meeting.

By order of the Commission.
Issued: August 21, 2018.
William Bishop,
Supervisory Hearings and Information Officer.

[FR Doc. 2018-18429 Filed 8-22-18; 11:15 am]

BILLING CODE 7020-02-P